DEPARTMENT OF HOUSING AND URBAN DEVELOPMENT

24 CFR Part 570

[Docket No. FR-6561-N-02]

Solicitation of Comments—Section 108 Loan Guarantee Program: Announcement of Fee To Cover Credit Subsidy Costs for FY 2026

AGENCY: Office of the Assistant Secretary for Community Planning and Development, HUD.

ACTION: Request for comments.

SUMMARY: This document announces a solicitation of comments on the methodology described to determine the Section 108 loan guarantee fee to cover credit subsidy costs that HUD published in the Federal Register on November 19, 2025. HUD will collect the fee from borrowers of loans guaranteed under HUD's Section 108 Loan Guarantee Program (Section 108 Program) to offset the credit subsidy costs of the guaranteed loans pursuant to commitments awarded in Fiscal Year 2026 in the event HUD is required or authorized by statute to do so, notwithstanding subsection (m) of section 108 of the Housing and Community Development Act of 1974.

DATES: Comment due date: January 28, 2026.

ADDRESSES: Interested persons are invited to submit comments. Copies of all comments submitted are available for inspection and downloading at www.regulations.gov. To receive consideration as public comments, comments must be submitted through one of the two methods specified below. All submissions must refer to the above docket number and title. Responses should include the name(s) of the person(s) or organization(s) filing the comment; however, because any responses received by HUD will be publicly available, responses should not include any personally identifiable information or confidential commercial information.

1. Electronic Submission of Comments. Interested persons may submit comments electronically through the Federal eRulemaking Portal at http://www.regulations.gov.

2. Submission of Comments by Mail. Comments may be submitted by mail to the Regulations Division, Office of General Counsel, Department of Housing and Urban Development, 451 7th Street SW, Room 10276, Washington, DC 20410-0500.

FOR FURTHER INFORMATION CONTACT: Scott Laliberte, Financial Management Division, Office of Block Grant Assistance, Office of Community Planning and Development, U.S. Department of Housing and Urban Development, 451 7th Street SW, Room 7282, Washington, DC 20410; telephone number 202-402-3956 (this is not a toll-free number). HUD welcomes and is prepared to receive calls from individuals who are deaf or hard of hearing, as well as individuals with speech or communication disabilities. To learn more about how to make an accessible telephone call, please visit: https://www.fcc.gov/consumers/guides/telecommunications-relay-service-trs.

FAX inquiries (but not comments) may be sent to Mr. Laliberte at 202-402-3956 (this is not a toll-free number).

SUPPLEMENTARY INFORMATION:

I. Background

On November 19, 2025, HUD published “Section 108 Loan Guarantee Program: Announcement of Fee to Cover Credit Subsidy Costs for FY 2026” in the Federal Register (90 FR 51992). That notice set forth in detail the methodology that HUD will use for setting the amount of the fee that HUD will impose to offset the credit subsidy costs of the guaranteed loans pursuant to commitments awarded in Fiscal Year 2026 in the event HUD is required or authorized by statute to do so, notwithstanding subsection (m) of section 108 of the Housing and Community Development Act of 1974. Through that notice, HUD set the fee at 0.58 percent of the principal amount of the guaranteed loan.

II. Request for Comments

Notwithstanding the setting of the fee in the November 19 notice, HUD desires to solicit comments from the public with respect to the methodology adopted to determine the fee. For details with respect to the methodology please review the November 19 publication of the notice at 90 FR 51992.

Because the notice with the methodology has been available to the public since November 19, HUD is setting an abbreviated public comment period of seven days. The deadline to solicit comments is January 28, 2026.

Ronald J. Kurtz,
Assistant Secretary for Community Planning and Development.

[FR Doc. 2026-01039 Filed 1-20-26; 8:45 am]

BILLING CODE 4210-67-P